FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 26, 2013.

A. Federal Reserve Bank of Atlanta (Chapelle Davis, Assistant Vice President) 1000 Peachtree Street NE., Atlanta, Georgia 30309:

1. Ben F. Easterlin, IV, and Tommye B. Easterlin, both of Atlanta, Georgia; to retain voting shares of CBA Bankshares, Inc., and thereby indirectly retain voting shares of Citizens Bank of Americus, both in Americus, Georgia.

B. Federal Reserve Bank of Dallas (E. Ann Worthy, Vice President) 2200 North Pearl Street, Dallas, Texas 75201-2272:

1. George W. Cummings, III; Nanette Weaver Cummings; George W. Cummings, Jr.; Dewey F. Weaver Jr.; Colby Weaver, all of Monroe, Louisiana; Twist Family, LLP; Randall Twist, both of Dallas, Texas; and Dewey Weaver, III, West Monroe, Louisiana; to retain voting shares of Progressive Bancorp, Inc., and thereby indirectly retain voting shares of Progressive Bank, both in Monroe, Louisiana.

Board of Governors of the Federal Reserve System, November 5, 2013.
Michael J. Lewandowski,
Associate Secretary of the Board.

[FR Doc. 2013-26819 Filed 11-7-13; 8:45 am]

BILLING CODE 6210-01-P